DEPARTMENT OF ENERGY

Federal Energy Regulatory Commission

Combined Notice of Filings #2

Take notice that the Commission received the following exempt wholesale generator filings:

Docket Numbers: EG19-16-000.

Applicants: TG High Prairie, LLC.

Description: Notice of Self-Certification of Exempt Wholesale Generator Status of TG High Prairie, LLC.

Filed Date: 11/2/18.

Accession Number: 20181102-5067.

Comments Due: 5 p.m. ET 11/23/18.

Take notice that the Commission received the following electric rate filings:

Docket Numbers: ER10-2551-009; ER10-1846-008; ER10-1849-014; ER10-1852-020; ER10-1855-008; ER10-1887-014; ER10-1920-016; ER10-1928-016; ER10-1952-014; ER10-1961-014; ER10-1994-008; ER10-1995-009; ER10-2720-016; ER11-2642-009; ER11-4428-016; ER11-4462-029; ER12-1228-016; ER12-1880-015; ER12-2227-014; ER12-569-015; ER12-895-014; ER13-2474-010; ER13-712-016; ER14-2707-011; ER14-2708-012; ER14-2709-011; ER14-2710-011; ER15-1925-008; ER15-2676-007; ER15-30-009; ER15-58-009; ER16-1440-005; ER16-1672-005; ER16-2190-004; ER16-2191-004; ER16-2240-005; ER16-2241-004; ER16-2275-004; ER16-2276-004; ER16-2297-004; ER16-2453-005; ER17-2152-001; ER17-838-004; ER18-2067-001; ER18-2314-001.

Applicants: Baldwin Wind, LLC, Blackwell Wind, LLC, Brady Interconnection, LLC, Brady Wind, LLC, Brady Wind II, LLC, Breckinridge Wind Project, LLC, Cedar Bluff Wind, LLC, Chaves County Solar, LLC, Cimarron Wind Energy, LLC, Cottonwood Wind Project, LLC, Day County Wind, LLC, Elk City Wind, LLC, Ensign Wind, LLC, Florida Power & Light Company, FPL Energy Burleigh County Wind, LLC, FPL Energy Cowboy Wind, LLC, FPL Energy Oklahoma Wind, LLC, FPL Energy Sooner Wind, LLC, FPL Energy South Dakota Wind, LLC, Gray County Wind Energy, LLC, High Majestic Wind Energy Center, LLC, High Majestic Wind II, LLC, Kingman Wind Energy I, LLC, Kingman Wind Energy II, LLC, Mammoth Plains Wind Project, LLC, Minco Wind, LLC, Minco Wind II, LLC, Minco Wind III, LLC, Minco Wind Interconnection Services, LLC, Minco Wind V, LLC, Ninnescah Wind Energy, LLC, Osborn Wind Energy, LLC, Palo Duro Wind Energy, LLC, Palo Duro Wind Interconnection Services, LLC, Roswell Solar, LLC, Rush Springs Wind Energy, LLC, Seiling Wind, LLC, Seiling Wind II, LLC, Seiling Wind Interconnection Services, LLC, Sholes Wind Energy, LLC, Steele Flats Wind Project, LLC, Wessington Wind Energy Center, LLC, Wilton Wind II, LLC, NEPM II, LLC, NextEra Energy Marketing, LLC.

Description: Notification of Non-Material Change in Status, et al. of NextEra Resources Entities.

Filed Date: 11/1/18.

Accession Number: 20181101-5228.

Comments Due: 5 p.m. ET 11/23/18.

Docket Numbers: ER19-256-000.

Applicants: Wisconsin Power and Light Company.

Description: § 205(d) Rate Filing: Wisconsin Power and Light Company Wholesale Formula Rate Changes to be effective 12/31/2018.

Filed Date: 11/1/18.

Accession Number: 20181101-5224.

Comments Due: 5 p.m. ET 11/23/18.

Docket Numbers: ER19-275-000.

Applicants: Midcontinent Independent System Operator, Inc.

Description: § 205(d) Rate Filing: 2018-11-02_Q3 Clean-up Filing to be effective 1/2/2019.

Filed Date: 11/2/18.

Accession Number: 20181102-5079.

Comments Due: 5 p.m. ET 11/23/18.

Docket Numbers: ER19-277-000.

Applicants: Midcontinent Independent System Operator, Inc., ALLETE, Inc.

Description: § 205(d) Rate Filing: 2018-11-02_SA 3201 MP-GRE ICA (Brainerd) to be effective 11/3/2018.

Filed Date: 11/2/18.

Accession Number: 20181102-5084.

Comments Due: 5 p.m. ET 11/23/18.

Docket Numbers: ER19-278-000.

Applicants: Midcontinent Independent System Operator, Inc., ALLETE, Inc.

Description: § 205(d) Rate Filing: 2018-11-02_SA 3203 MP-GRE ICA (Baxter) to be effective 11/3/2018.

Filed Date: 11/2/18.

Accession Number: 20181102-5097.

Comments Due: 5 p.m. ET 11/23/18.

Docket Numbers: ER19-279-000.

Applicants: Duke Energy Florida, LLC.

Description: § 205(d) Rate Filing: DEF-RCID NITSA-NOA Amendment (SA-147) to be effective 12/1/2018.

Filed Date: 11/2/18.

Accession Number: 20181102-5110.

Comments Due: 5 p.m. ET 11/23/18.

Docket Numbers: ER19-280-000.

Applicants: Midcontinent Independent System Operator, Inc.

Description: § 205(d) Rate Filing: 2018-11-02_Revisions to Attachment FF-4 to be effective 1/2/2019.

Filed Date: 11/2/18.

Accession Number: 20181102-5126.

Comments Due: 5 p.m. ET 11/23/18.

Docket Numbers: ER19-281-000.

Applicants: PacifiCorp.

Description: § 205(d) Rate Filing: BPA Construct Agmt for Hilltop Happy Camp to be effective 12/24/2018.

Filed Date: 11/2/18.

Accession Number: 20181102-5131.

Comments Due: 5 p.m. ET 11/23/18.

Docket Numbers: ER19-283-000.

Applicants: ALLETE, Inc.

Description: Initial rate filing: Reactive Power to be effective 1/1/2019.

Filed Date: 11/2/18.

Accession Number: 20181102-5166.

Comments Due: 5 p.m. ET 11/23/18.

Docket Numbers: ER19-284-000.

Applicants: Florida Power & Light Company.

Description: § 205(d) Rate Filing: FPL and FKEC Amendments to Rate Schedule FERC No. 322 to be effective 4/1/2018.

Filed Date: 11/2/18.

Accession Number: 20181102-5170.

Comments Due: 5 p.m. ET 11/23/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2018.
Nathaniel J. Davis, Sr.,
Deputy Secretary.

[FR Doc. 2018-24535 Filed 11-8-18; 8:45 am]

BILLING CODE 6717-01-P